DEPARTMENT OF HOMELAND SECURITY

Federal Emergency Management Agency

[Docket ID FEMA-2023-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Federal Emergency Management Agency, Department of Homeland Security.

State and county | Location and case No. | Chief executive officer of community | Community map repository | Date of modification | Community No.
Alabama:
Madison (FEMA Docket No.: B-2314). | City of Huntsville (22-04-4159P). | The Honorable Thomas Battle, Jr., Mayor, City of Huntsville, 308 Fountain Circle, Huntsville, AL 35801. | City Hall, 308 Fountain Circle, Huntsville, AL 35801. | Feb. 13, 2023 | 010153
Madison (FEMA Docket No.: B-2314). | Unincorporated areas of Madison County (22-04-4159P). | The Honorable Dale Strong, Chair, Madison County Commission, 100 North Side Square, Huntsville AL 35801. | Madison County Engineering Department, 266-C Shields Road, Huntsville, AL 35811. | Feb. 13, 2023 | 010151
Colorado: Jefferson (FEMA Docket No.: B-2299). | Unincorporated areas of Jefferson County (21-08-1089P). | The Honorable Andy Kerr, Chair, Jefferson County Board of Commissioners, 100 Jefferson County Parkway, Suite 5550, Golden, CO 80419. | Jefferson County Planning and Zoning Division, 100 Jefferson County Parkway, Suite 3550, Golden, CO 80419. | Mar. 3, 2023 | 080087
Florida:
Hillsborough (FEMA Docket No.: B-2299). | Unincorporated areas of Hillsborough County (21-04-3923P). | Bonnie Wise, Hillsborough County Administrator, 601 East Kennedy Boulevard, 26th Floor, Tampa, FL 33602. | Hillsborough County Center, 601 East Kennedy Boulevard, 22nd Floor, Tampa, FL 33602. | Mar. 2, 2023 | 120112
Miami-Dade (FEMA Docket No.: B-2304). | City of Miami (22-04-3431P). | The Honorable Francis Suarez, Mayor, City of Miami, 444 Southwest 2nd Avenue, Miami, FL 33130. | Building Department, 444 Southwest 2nd Street, 4th Floor, Miami, FL 33130. | Mar. 6, 2023 | 120650
Monroe (FEMA Docket No.: B-2299). | Unincorporated areas of Monroe County (22-04-5380P). | The Honorable David Rice, Mayor, Monroe County Board of Commissioners, 9400 Overseas Highway, Suite 210, Marathon, FL 33050. | Monroe County Building Department, 2798 Overseas Highway, Suite 300, Marathon, FL 33050. | Mar. 13, 2023 | 125129
Orange (FEMA Docket No.: B-2299). | Unincorporated areas of Orange County (22-04-2597P). | The Honorable Jerry L. Demings, Mayor, Orange County, 201 South Rosalind Avenue, 5th Floor, Orlando, FL 32801. | Orange County Public Works Department, Stormwater Management Division, 4200 South John Young Parkway, Orlando, FL 32839. | Mar. 13, 2023 | 120179
Pasco (FEMA Docket No.: B-2299). | Unincorporated areas of Pasco County (22-04-4232P). | Dan Biles, Pasco County Administrator, 8731 Citizens Drive, New Port Richey, FL 34654. | Pasco County Administration Building, 8731 Citizens Drive, New Port Richey, FL 34654. | Mar. 6, 2023 | 120230
Polk (FEMA Docket No.: B-2299). | Unincorporated areas of Polk County (21-04-3985P). | Bill Beasley, Manager, Polk County, 330 West Church Street, Drawer BC01, Bartow, FL 33830. | Polk County Administration Building, 330 West Church Street, Bartow, FL 33830. | Mar. 2, 2023 | 120261
Georgia: Bryan (FEMA Docket No.: B-2299). | City of Pembroke (22-04-0157P). | The Honorable Judy B. Cook, Mayor, City of Pembroke, P.O. Box 130, Pembroke, GA 31321. | Administration Department, 353 North Main Steet, Pembroke, GA 31321. | Mar. 1, 2023 | 130017
Kentucky: Warren (FEMA Docket No.: B-2314). | City of Bowling Green (22-04-3008P). | The Honorable Todd Alcott, Mayor, City of Bowling Green, 1001 College Street, Bowling Green, KY 42101. | Planning Commission, 922 State Street, Suite 200, Bowling Green, KY 42101. | Mar. 13, 2023 | 210219
Massachusetts: Plymouth (FEMA Docket No.: B-2299). | Town of Wareham (22-01-0708P). | Derek Sullivan, Town of Wareham Administrator, 54 Marion Road, Wareham, MA 02571. | Town Hall, 54 Marion Road, Wareham, MA 02571. | Mar. 3, 2023 | 255223
North Carolina:
Cumberland (FEMA Docket No.: B-2299). | City of Fayetteville (22-04-2695P). | The Honorable Mitch Colvin, Mayor, City of Fayetteville, 433 Hay Street, Fayetteville, NC 28301. | Zoning Department, 433 Hay Street, Fayetteville, NC 28301. | Feb. 27, 2023 | 370077
Henderson (FEMA Docket No.: B-2321) | Village of Flat Rock (22-04-1155P). | The Honorable Nick Weedman, Mayor, Village of Flat Rock, P.O. Box 1288, Flat Rock, NC 28731. | Planning Department, 110 Village Center Drive, Flat Rock, NC 28731. | Mar. 10, 2023 | 370565
Rowan (FEMA Docket No.: B-2314). | City of Salisbury (21-04-5312P). | The Honorable Karen Alexander, Mayor, City of Salisbury, 132 North Main Street, Salisbury, NC 28144. | City Hall, 217 South Main Street, Salisbury, NC 28144. | Mar. 17, 2023 | 370215
Wake (FEMA Docket No.: B-2314). | Town of Fuquay-Varina (21-04-3215P). | The Honorable Blake Massengill, Mayor, Town of Fuquay-Varina, 134 North Main Street, Fuquay-Varina, NC 27526. | Engineering Department, 134 North Main Street, Fuquay-Varina, NC 27526. | Jan. 17, 2023 | 370239
Wake (FEMA Docket No.: B-2314). | Town of Holly Springs (21-04-0922P). | The Honorable Sean Mayefskie, Mayor, Town of Holly Springs, P.O. Box 8, Holly Springs, NC 27540. | Engineering Department, 128 South Main Street, Holly Springs, NC 27540. | Mar. 4, 2023 | 370403
Texas:
Caldwell (FEMA Docket No.: B-2299). | City of Lockhart (22-06-0376P). | Steve Lewis, Manager, City of Lockhart, P.O. Box 239, Lockhart, TX 78644. | City Hall, 308 West San Antonio Street, Lockhart, TX 78644. | Mar. 10, 2023 | 480095
Caldwell (FEMA Docket No.: B-2299). | Unincorporated areas of Caldwell County (22-06-0376P). | The Honorable Hoppy Haden, Caldwell County Judge, 110 South Main Street, Room 101, Lockhart, TX 78644. | Caldwell County Main Historic Courthouse, 110 South Main Street, Room 201, Lockhart, TX 78644. | Mar. 10, 2023 | 480094
Collin (FEMA Docket No.: B-2299). | City of Plano (22-06-0995P). | The Honorable John Muns, Mayor, City of Plano, 1520 K Avenue, Plano, TX 75074. | City Hall, 1520 K Avenue, Plano, TX 75074. | Mar. 6, 2023 | 480140
Ellis (FEMA Docket No.: B-2304). | City of Venus (22-06-0620P). | The Honorable James L. Burgess, Mayor, City of Venus, 700 West U.S. Highway 67, Venus, TX 76084. | Public Works and Water/Sewer Department, 700 West U.S. Highway 67, Venus, TX 76084. | Mar. 6, 2023 | 480883
Ellis (FEMA Docket No.: B-2304). | City of Waxahachie (22-06-0378P). | The Honorable David Hill, Mayor, City of Waxahachie, P.O. Box 757, Waxahachie, TX 75168. | Public Works and Engineering Department, 401 South Roger Street, Waxahachie, TX 75165. | Mar. 13, 2023 | 480211
Ellis (FEMA Docket No.: B-2304). | Unincorporated areas of Ellis County (22-06-0378P). | The Honorable Todd Little, Ellis County Judge, 101 West Main Street, Waxahachie, TX 75165. | Ellis County Engineering Department, 109 South Jackson Street, Waxahachie, TX 75165. | Mar. 13, 2023 | 480798
Ellis (FEMA Docket No.: B-2304). | Unincorporated areas of Ellis County (22-06-0620P). | The Honorable Todd Little, Ellis County Judge, 101 West Main Street, Waxahachie, TX 75165. | Ellis County Engineering Department, 109 South Jackson Street, Waxahachie, TX 75165. | Mar. 6, 2023 | 480798
Montgomery (FEMA Docket No.: B-2299). | City of Conroe (22-06-1057P). | The Honorable Jody Czajkoski, Mayor, City of Conroe, P.O. Box 3066, Conroe, TX 77305. | City Hall, 700 Metcalf Street, Conroe, TX 77301. | Mar. 2, 2023 | 480484
Montgomery (FEMA Docket No.: B-2299). | City of Shenandoah (22-06-1057P). | The Honorable John Escoto, Mayor, City of Shenandoah, 29955 I-45 North, Shenandoah, TX 77381. | City Hall, 29955 I-45 North, Shenandoah, TX 77381. | Mar. 2, 2023 | 481256
Montgomery (FEMA Docket No.: B-2299). | Unincorporated areas of Montgomery County (22-06-1057P). | The Honorable Mark J. Keough, Montgomery County Judge, 501 North Thompson Street, Suite 401, Conroe, TX 77301. | Montgomery County Commissioners Court Building, 501 North Thompson Street, Suite 100, Conroe, TX 77381. | Mar. 2, 2023 | 480483
Travis (FEMA Docket No.: B-2304). | City of Austin (22-06-1763P). | Spencer Cronk, Manager, City of Austin, P.O. Box 1088, Austin, TX 78767. | Watershed Engineering Division, 505 Barton Springs Road, 12th Floor, Austin, TX 78704. | Mar. 6, 2023 | 480624
Virginia: Loudoun (FEMA Docket No.: B-2299). | Unincorporated areas of Loudoun County (22-03-0302P). | Tim Hemstreet, Loudoun County Administrator, 1 Harrison Street Southeast, 5th Floor, Leesburg, VA 20175. | Loudoun County Government Center, 1 Harrison Street Southeast, 3rd Floor, MSC #60, Leesburg, VA 20175. | Mar. 6, 2023 | 510090

[FR Doc. 2023-06832 Filed 3-31-23; 8:45 am]

BILLING CODE 9110-12-P